DEPARTMENT OF HOUSING AND URBAN DEVELOPMENT

[Docket No. FR-4992-N-01]

Notice of Public Interest (NOPI) Soliciting Preliminary Applications for PATH Cooperative Research in Housing Technologies

AGENCY: Office of the Assistant Secretary for Policy Development and Research, HUD.

ACTION: Notice of public interest soliciting preliminary applications.

Overview Information:

A. Federal Agency Name. U.S. Department of Housing and Urban Development, Office of the Assistant Secretary for Policy Development and Research.

B. Funding Opportunity Title. Partnership for Advancing Technology in Housing (PATH) Cooperative Agreements.

C. Announcement Type. Initial announcement.

D. Funding Opportunity Number. The funding opportunity number is: FR-4992-N-01. The OMB approval number is pending.

E. Catalog of Federal Domestic Assistance (CFDA) Number: The CFDA number for this announcement is 14.506, General Research and Technology Activities.

F. Dates: Preliminary application submissions will be accepted for a period of 60 days following the publication of this notice.

G. Optional, Additional Overview Content Information:

1. Program Purpose. The purpose of this notice is to inform potential applicants that the Office of Policy Development and Research (PD&R) of the Department of Housing and Urban Development is interested in receiving preliminary applications for cooperative agreements for research and activities in support of the Partnership for Advancing Technology in Housing (PATH) program.

PATH is a voluntary partnership in which leaders in the homebuilding, product manufacturing, insurance, and financial industries join forces with representatives of Federal agencies concerned with housing. By working together, PATH partners work to improve the quality and affordability of today's new and existing homes, while strengthening the technology infrastructure of the United States.

PATH is designed to spur change in housing industry design and construction by providing the latest information on innovative building materials, techniques and systems. HUD's objective in issuing this Notice is to spur the advancement of new technology that can serve as models for the building industry and eliminate barriers to acceptance of the new technologies by local authorities and homebuyers.

Previous PATH sponsored efforts have been roadmapping sessions to identify the advances critical to furthering the use of new technologies in the residential homebuilding industry. The initial roadmapping sessions were focused on: Reducing Energy Use in Existing Buildings; Information Technology to Accelerate and Streamline the Homebuilding Process; Advanced Panelized Systems; Manufactured Housing; and Whole House Building Process Redesign. Information on these roadmaps is available on the ToolBase Web sites at http://www.toolbase.org/roadmaps.

HUD is looking for applications which encourage developing and adopting innovative housing components and systems, designs, and production methods, collecting and disseminating information on the new technology advances, reducing the amount of time needed to move housing related technologies to the market place, and removing barriers to the acceptance of these new and emerging technologies.

2. Available Funds. This Notice announces the availability of up to $3 million dollars in FY 2005 funds.

3. Estimated Grant Amount and Period of Performance. Awards are expected to range from $50,000 to $1,000,000, dependent upon the work to be performed. The period of performance is expected to not exceed 24 months in duration. Awards will be made in the form of a Cooperative Agreement.

4. Eligible Applicants. Eligible applicants are for-profit, not-for-profit, or non-profit housing industry or industry related organizations (or teams of organizations). PD&R encourages small businesses, minority owned firms, HUB-Zone firms, and other similar organizations to participate in this program. For profit applicants should be aware that HUD will not pay fee or profit for the work conducted under this Notice.

5. Match. Proposals funded under this program require a minimum 25 percent match of total project costs.

6. Number of Applications. There is no limitation on the number of applications an applicant may submit, but each application must demonstrate the ability to meet the 25 percent matching requirement.

7. Application materials will be available on http://www.Grants.gov. Information on the PATH program is available on http://www.pathnet.org

Full Text of Announcement

I. Funding Opportunity Description

A. Program Description. HUD is soliciting preliminary application proposals to further the objectives of the Partnership for Advancing Technology in Housing (PATH) program. The purpose of the PATH program is to advance technologies that have the potential for improving housing performance. Technology advances may include but are not limited to, use of new materials, components and systems to complete houses, which improve the quality, durability, efficiency and environmental performance, and/or affordability of housing. HUD is also interested in eliminating barriers to the acceptance of these new and emerging technologies by the building industry, State and local governments, homeowners and homebuyers.

1. PATH program goals are:

a. Accelerate the use of new housing technologies (including processes) in the housing industry—this includes conducting basic and applied research, development of housing technology, development of evaluation measures for housing technology, evaluation of technologies on the marketplace, and long term analysis of housing technology;

b. Disseminate new and existing technological information—this includes supporting regulatory acceptance of technologies, dissemination of information on promising but underutilized technologies, demonstrations of underutilized technologies, and provision of a clearinghouse for information on housing technology;

c. Study and establish mechanisms for sustained housing technology development—this includes forecasting of research needs, identification of research, and strategic planning and operations; and

d. Eliminate barriers to the acceptance of new technologies by the housing industry and communities.

2. Priorities for funding under this Notice are efforts which:

a. Conduct cooperative information gathering and dissemination in the U.S. residential construction industry. The work is targeted at improving the quality of and access to advanced technological information for the U.S. residential construction industry in a non-commercial manner by identifying the most reliable sources of technical information, assessing their accuracy and bias, and providing this information in an accessible and timely manner. This type effort is considered one of PATH's highest levels of preference.

b. Experimental or innovative programs or initiatives to reduce institutional barriers to innovation. This type effort is considered one of PATH's highest levels of preference.

c. Critical research and development efforts that specifically implement the roadmaps (including manufactured housing) through research or demonstration projects that address PATH objectives. This type effort is considered one of PATH's highest levels of preference.

d. Address the subjects of roadmaps but not specific activities identified in the roadmaps. This type effort is considered high preference.

e. Address all other activities that support PATH objectives as defined above. This type effort is considered lower preference.

While PATH does not typically fund basic research through this approach (the National Science Foundation has partnered with PATH to support basic research in housing issues), some projects in the later stages of R&D (applied, development, and commercialization) may be considered under the above criteria. Cooperative Agreements under the PATH program are not intended to serve as primary investment capital and applications that demonstrate varied and extensive sources or amounts of non-Federal funding will be more favorably considered.

B. Authority. This program is authorized by the HUD Fiscal Year 2005 Appropriations Act (Pub. L. 108-447; approved December 8, 2004).

II. Award Information

A. Total Amount of Funding Available. Up to $3 million dollars in FY 2005 funds is being made available in support of the PATH program.

B. Amount and Anticipated Number of Awards. Awards are expected to range from $50,000 to $1,000,000 dependent upon the nature of the proposal submitted to HUD. The period of performance is expected to range from 12 months to 24 months in duration.

C. Type of Awards. Awards will be made in the form of a Cooperative Agreement. HUD expects to have substantial involvement in the review and schedules of deliverables, monitoring of budget expenditures and program staff involvement in steering committees, joint filed research, and document reviews and acceptance. HUD will entertain proposals for new and renewal of existing awards which further the objectives of this Notice. No contracts will be awarded under this Notice.

III. Eligibility Information

A. Eligible Applicants. Eligible applicants are for profit and non-profit organizations including trade and industry organizations and business, individuals, colleges and universities.

B. Cost Sharing or Matching. Proposals funded under this program require a minimum 25 percent match of total project costs. The match can be provided as cash or in-kind contributions. Match provided may not be from Federal funds except for Community Development Block Grant (CDBG) funds. Match or cost sharing is an apportioning of the total of direct and indirect costs for the project between the applicant (or some other non-Federal source) and HUD.

C. Other.

1. Eligible Activities. Eligible activities are research and related activities which further the PATH effort and which are in keeping with the priorities contained in this Notice.

2. Mandatory Electronic Application Submission via Grants.gov. Beginning in FY 2005, HUD is mandating electronic application submission using the federal government portal http://www.Grants.gov. Electronic application submissions require the inclusion of a DUNS number and registration with Grants.gov, the Central Contractor Registry and a Credential Provider, in order for HUD to accept your authenticated electronic signature. Individuals are exempt from the DUNS requirement, however they should contact Grants.gov Support to discuss how they register and submit their application electronically. The Grants.gov support phone number is 800-518-GRANTS or you can email the support desk at the following address: Support@grants.gov. For further information on electronic application submission, you can go to http://www.grants.gov/GetStarted and follow the directions or you can review the detailed instructions contained in the General Section of the 2005 SuperNOFA, published March 21, 2005 (70 FR 13576). The General Section is available on HUD's Web site at http://www.hud.gov/utilities/intercept.cfm?/offices/adm/grants/nofa05/gensec.pdf.

3. Threshold Criteria.

a. Accounting System Review. HUD will not award funds to an individual or organization that does not have an accounting system that meets Federal requirements. If an organization has never received federal funding, HUD may conduct an accounting system review prior to awarding any funding. If the review finds deficiencies, HUD may request that the applicant obtain the services of an organization to maintain and account for program funds or elect not to fund the proposal.

b. DUNS Number Requirement. Applicants (other than individual applicants) must have a Data Universal Numbering System Number (DUNS). Failure to include a DUNS number will be considered a technical deficiency. Applicants submitting an application via the federal government portal will need a DUNS number to submit their application electronically. Individual applicants are exempt from this requirement as discussed in paragraph III.C.2 above.

c. Delinquent Federal Debt. Consistent with the purpose and intent of 31 U.S.C. 3720B and 28 U.S.C. 3201(e), no award of federal funds will be made to an applicant that has an outstanding or delinquent federal debt unless: (1) The delinquent account is paid in full, (2) a negotiated repayment schedule is established and the repayment schedule is not delinquent, or (3) other arrangements satisfactory to HUD are made prior to the pre-application submission date.

d. Compliance With Fair Housing and Civil Rights Laws. For Threshold requirements pertaining to compliance with fair housing and civil rights laws, please see the General Section of the 2005 SuperNOFA, published March 21, 2005 (70 FR 13576).

IV. Application and Submission Information

A. Address to Request an Application Package. Copies of this Notice and application forms may be downloaded from the grants.gov Web site at http://www.grants.gov/FIND. On that site you can choose from links provided under the topic “Search Grant Opportunities,” which allows you to do a basic search or to browse by category or agency. If you have difficulty accessing the information, you may receive customer support from Grants.gov by calling its help line at (800) 518-GRANTS or sending an e-mail to support@grants.gov. The operators will assist you in accessing the information. If you do not have Internet access and you need to obtain a copy of this Notice, you can contact HUD's NOFA Information Center toll-free at (800) HUD-8929. Persons with hearing or speech impairments may also call toll-free at (800) HUD-2209.

The published Federal Register document is the official document that HUD uses to solicit applications. Therefore, if there is a discrepancy between any materials published by HUD in its Federal Register publications and other information provided in paper copy, electronic copy, or at http://www.grants.gov, the Federal Register publication prevails. Please be sure to review your application submission against the requirements in the Federal Register file of the program Notice. The instructions incorporated into the application found on Grants.gov/Apply contain the PDF files of the Federal Register publication. By accessing the information from the Internet at Grants.gov you will not have to wait for copies of the NOPIs/NOFAs or forms to begin to prepare your application for funding.

B. Content and Form of Application Submission. Applications submissions under this Notice will be done in a two-step process. Applicants are invited to submit a preliminary application for funding consideration. If the preliminary application is deemed worthy of further consideration, the applicant will be requested to submit a full application for funding consideration. Required forms can be found in the General Section of the 2005 SuperNOFA, published March 21, 2005 (70 FR 13576).

Preliminary proposals should be brief (1-3 pages) and should include the following information:

1. SF 424, Application for Federal Financial Assistance. Mark the application submission type in Box 1 as Preapplication, non Construction;

2. A description of your proposal which includes:

a. The title;

b. The specific objectives of the research you will be conducting if you receive funding;

c. The problems/issues being addressed;

d. The relationship of the research to the PATH goals and research priorities contained in this Notice;

e. The methodology to be employed in conducting the research;

f. A statement why the applicant is a unique source from which the work may be obtained (not just a well-qualified, or even best qualified source) or the content and nature of the proposal is the private, sole possession of the applicant, or is of a direct and immediate value to the Government, and cannot be obtained from alternative, nonexclusive sources;

g. The products to be prepared (deliverables, research reports, etc.);

h. The anticipated period of performance needed to conduct the research;

i. A summary budget that includes estimates of salary, fringe benefits, supplies, equipment and other relevant budget categories. The budget must also identify costs to be allocated from HUD funds and the matching share to be provided by the applicant in fulfillment of the 25% match requirement. Applicants may use form HUD 424 CB to provide their budget proposal.

j. Proposals indicating the acquisition of equipment (defined as a durable item that costs more than $5,000) will need to discuss the need for such equipment and alternatives to the acquisition. In such instances, applicants should discuss why leasing is not a viable alternative. No other information should be provided with the application.

k. Facsimile Transmittal Cover Page (HUD 96011). This form must be used as part of the electronic application only if you intend to transmit third party documents and other information as described in the General Section of the FY 2005 SuperNOFA as part of your electronic application submittal. Applicants are advised to download the application package, complete the SF 424 first and by doing so it will pre-populate the Transmittal Cover page. The Transmittal Cover page will contain a unique identifier embedded in the page that will help HUD associate your faxed materials to your application. Please download the cover page and then make multiple copies to provide to any of the entities responsible for submitting faxed materials to HUD on your behalf.

No other information should be provided with the application.

C. Submission Dates and Times. Preliminary applications may be submitted any time following publication of this Notice, but no later than July 22, 2005. Applications must meet the timely submission requirements of this Notice. Applications received after the 60 days period will be deemed late and will not be considered under this Notice.

D. Intergovernmental Review. This program is not subject to Intergovernmental Review under Executive Order 12372.

E. Funding Restrictions.

1. HUD is not responsible for costs incurred in the preparation of summary proposals or full proposals should the applicant be requested to submit one.

2. Fee or profit will not be paid for work done under this Notice.

3. Proposals indicating the acquisition of equipment (defined as a durable item that costs more than $5,000) will need prior approval of HUD for such expenses.

4. HUD will not fund the following types of proposals:

a. Proposals for operating funds, working capital, plant information technology, or other investment, including construction.

b. Proposals that solely or principally relate to or benefit a particularly individual, local group, or community (i.e., proposals that do not have a primary expectation of national application or replication of results).

c. Demonstration proposals that would require major statutory changes in order for the results to be applied.

d. Proposals for support of the development of consumer, business, or proprietary products, systems, or concepts that are later to be offered for sale at a profit. (In special instances, unmet needs of high national priority—e.g., energy-conservation systems for housing—may be funded, but only on a solicited, competitive, public Request for Proposals basis).

e. Proposals that duplicate or overlap current or previous work.

f. Proposals that do not meet Federal criteria for award of sole-source, non-competitive contracts. Awards may not be made in response to an Unsolicited Proposal unless the offerer is the unique source from which the work may be obtained (not just a well-qualified, or even best-qualified, source), or the content and nature of the proposal is the private, sole possession of the offerer, is of direct and immediate value to the Government, and cannot be obtained from alternative, nonexclusive sources. HUD may conduct market research to verify claims of unique sources.

g. Proposals that require a disproportionate share of HUD's research funds.

h. Proposals that do not provide for significant cost sharing by the offerer.

i. Proposals that are of generally the same subject matter as a current PD&R competitive Request for Proposals (RFP) or an invitation for assistance agreement (grant or cooperative agreement) applications. The period of ineligibility will generally be from the date of the first solicitation notice in FedBizOpps or the Federal Register until ninety (90) calendar days after competitive selection and award.

F. Other Submission Requirements.

1. Application Submission and Receipt Procedure. Applications must be submitted via the Grants.gov Web site at http://www.grants.gov/Apply by not later than the established submission date. Please read the General Section of the SuperNOFA, published March 21, 2005 (70 FR 13576) carefully and completely for further submission and receipt procedures for all applications because failure to comply may disqualify your application.

2. Waiver of Electronic Application Submission. HUD regulations at 24 CFR 5.110 permit waivers of regulatory requirements to be granted for cause. If you are unable to submit your application electronically, you may request a waiver from this requirement. Your waiver request must be in writing and state the basis for the request and explain why electronic submission is not possible. The basis for waivers for cause may include but are not limited to (1) lack of available Internet access in the geographic location in which the applicant's business office is located or, (2) physical disability of the applicant that prevents the applicant from accessing or responding to the application electronically.

The waiver request should also include an email or name and mailing address where responses can be directed. You must submit your waiver request to the Assistant Secretary for Policy Development and Research, Attention: Mr. Patrick Tewey, Director of Budget, Contracts and Program Control, Office of Policy Development and Research, 451 Seventh Street, SW., (Room 8230), Washington, DC 20410. Waiver requests will be accepted beginning on the date of publication of this Notice and no later than 30 days prior to the application submission date. HUD will not consider a waiver request that does not conform to the above requirement.

To avoid a delay in the process, waiver requests should be sent by United States Postal Service Express Mail. You, the applicant, should retain a receipt for the mailing showing the date submitted to the United States Postal Service (USPS). HUD will acknowledge receipt of the waiver request by e-mail, if an email address is provided, or by United States Postal Service Express Mail or other available means. HUD will not make determinations or respond to waiver requests via the telephone. Each waiver request will be reviewed and a determination made. HUD will inform the applicant, whether or not the waiver has been granted. In the event a waiver is granted, the submission date for mailed applications will be the same as the electronic application submission receipt date. Applicants receiving a waiver will be expected to follow the submission instructions immediately following. Requests for waivers submitted to the USPS by the established waiver submission date and received by HUD no later than 15 days after the established waiver submission date (30 day prior to the application submission date) will be considered. If the USPS does not have a receipt with a digital time stamp, HUD will accept a receipt showing USPS Form 3817, Certificate of Mailing with a dated postmark. The proof of submission receipt provided by the Postal Service must show USPS receipt no later than the established waiver submission deadline. Faxed requests for waivers will not be considered.

3. Submission Instructions for Applicants Receiving a Waiver of Electronic Submission. Applicants receiving a waiver of the electronic submission requirements must submit an original and 2 copies of their application using the United States Postal Service to: Attention: Mr. Patrick Tewey, Director of Budget, Contracts and Program Control, Office of Policy Development and Research, 451 Seventh Street, SW. (Room 8230), Washington, DC 20410. Beginning in FY 2005, HUD will no longer accept hand deliveries of applications. Applicants who receive a waiver and are therefore allowed to submit paper applications must submit them via the United States Postal Service using either Express Mail or regular mailing services.

4. Timely Receipt Requirements and Proof of Timely Submission.

a. Electronic Submission. All applications must be received by Grants.gov by 11:59:59 p.m. Eastern Time on the application submission date stated in this Notice. Grants.gov automatically records proof of timely submission. An electronic time stamp is generated within the Grants.gov system when the application has been successfully received. The applicant will receive an acknowledgement of receipt and a tracking number from Grants.gov with the successful transmission of its application. Applicants should print this receipt and save it, along with facsimile receipts for information provided by facsimile, as proof of timely submission. When HUD successfully retrieves the application from Grants.gov, you will be provided an electronic acknowledgment of receipt to the email address provided on the SF-424. Your time of submission will be the date and time that Grants.gov receives your application submittal and the date HUD receives those portions of your application submitted by facsimile. If you are including attachments to your application that are being submitted by facsimile, all facsimile transmissions must be received by the application submission date and time.

Applications received by Grants.gov after the established submission deadline for the program will be considered late and will not be considered for funding by HUD. Similarly, applications will be considered late if information submitted by facsimile as part of the application has not received by HUD by the established submission deadline. Please take into account the transmission time required for submitting your application via the Internet and the time required to fax any related documents. HUD suggests that applicants submit their applications during the operating hours of the Grants.gov Support Desk so that if there are questions concerning transmission, operators will be available to assist you through the process. Submitting your application during the Support Desk hours will also ensure that you have sufficient time for the application to complete its transmission prior to the application deadline.

Applicants using dial-up connections should be aware that transmission takes extra time before Grants.gov receives it. Grants.gov will provide either an error or a successfully received transmission message. The Grants.gov Support Desk reports that some applicants abort the transmission because they think that nothing is occurring during the transmission process. Please be patient and give the system time to process the application. Uploading and transmitting a large file, particularly electronic forms with associated eXtensible mark-up language (XML) schema, will take considerable time to process and be received by Grants.gov.

b. Applications Receiving Waivers To Submit a Paper Copy Application. Applicants granted a waiver to the electronic submission requirement must use the United States Postal Service (USPS) to submit their applications to HUD. Applicants must take their application to a post office to get a receipt of mailing that provides the date and time the package was submitted to the USPS. USPS rules now require that large packages must be brought to a postal facility for mailing. In many areas, the USPS has made a practice of returning to the sender, large packages that have been dropped in a mail collection box. Paper copy applications submitted to the USPS by the submission date and time and received by HUD no later than 15 days after the established submission date will receive funding consideration. If the USPS does not have a receipt with a digital time stamp, HUD will accept a receipt showing USPS Form 3817, Certificate of Mailing with a dated postmark. The proof of submission receipt provided by the Postal Service must show receipt no later than the application submission deadline. Applicants whose applications are determined to be late, who cannot furnish HUD with a receipt from the USPS that verifies the package was submitted to the USPS prior to the submission due date and time will not receive funding consideration. Applicants may use any type of mail service provided by the USPS to have their application package delivered to HUD in time to meet the submission requirements.

c. Late Applications, Whether Received Electronically or in Hard Copy, Will Not Receive Funding Consideration. HUD will not be responsible for directing or forwarding applications to the appropriate location. Applicants should pay close attention to these submission and timely receipt instructions, as they can make a difference in whether HUD will accept your application for funding consideration.

d. HUD Will Not Accept Fax Transmissions From Applicants Who Receive a Waiver To Submit a Paper Copy Application. Paper applications must be complete and submitted in their entirety, via the USPS. Applicants need to pay attention to providing the required number of copies to the appropriate HUD office(s).

V. Application Review Information

A. Criteria

1. Threshold Review. Applications will be reviewed for conformance with the goals and objectives of the PATH program and this Notice. Proposals will be returned without further review if they do not provide for cost sharing, include the unique source statement, address PATH objectives or preferences, or provide a proposed budget.

2. Substantive Review. Applications passing threshold review will undergo a substantive review. HUD will review the application against the following criteria:

a. Research Areas To Be Addressed. The degree to which the submission most closely aligns with and will have the greatest impact in meeting PATH goals and objectives including the preferences for the types of research to be conducted contained in this Notice, PATH technical roadmaps, and other key PATH program elements. Projects which address the following issues will receive preference in the following order:

(1) Highest Preference:

(a) Conduct Cooperative information gathering and dissemination in the U.S. residential construction industry. The work is targeted at improving the quality of, and access to, advanced technological information for the U.S. residential construction industry in a non commercial manner by identifying the most reliable sources of technical information, assessing their accuracy and bias, and providing this information in an accessible and timely manner.

(b) Experimental or innovative programs or initiatives to reduce institutional barriers to innovation.

(c) Critical research and development efforts, which specifically implement the roadmaps (including manufactured housing) through research or demonstration projects that address PATH objectives.

(2) High Preference: Address the subjects of roadmaps but not specific activities identified in the roadmap.

(3) Lower Preference: Address all other activities that support PATH objectives not defined above.

b. Other Considerations.

(1) While PATH does not typically fund basic research through this approach (the National Science Foundation has partnered with PATH to support basic research in housing issues), some projects in the later stages of R&D (applied, development, and commercialization) may be considered under the above criteria.

(2) Cooperative Agreements under the PATH program are not intended to serve as primary investment capital and applications that demonstrate varied and extensive sources or amounts of non-Federal funding will be more favorably considered.

3. Other Review Criteria. In addition to the subject matter preferences stated above, HUD will review applications against the following additional criteria:

a. Capacity of the Applicant and Relevant Staff: The proposal's description of the applicant's capacity (both managerial and technical) will be evaluated. This evaluation will serve to validate the likelihood the applicant will be able to successfully provide the management and technical staff necessary to complete the work. The assessment of capacity will include the applicant proposing the effort as well as the applicant's partners. With regard to the technical capacity, the capabilities of the applicant and the applicant's partners will be considered.

b. Need/Extent of the Problem: The proposal will be evaluated on how the problem or issue to be addressed affects the residential construction industry. Project proposals that address issues relevant to a specific, proprietary segment of the housing industry or a specific geographic location will not be considered as favorably as those which are non-proprietary and focus on addressing housing issues nationwide. Applicants are urged to review the past PATH and HUD research (which is available from http://www.huduser.org/) to ensure their proposals have incorporated the results of past research completed by HUD and PATH.

c. Soundness of Approach: The application will be assessed with regard to the soundness of the research strategy with respect to both the technical and management approach. Applications should provide the necessary detail in describing the research strategy and plan for the execution of the work to allow both understanding and assessment of the proposal.

d. Leveraging Resources: Applications require a minimum match of 25% of the Federal share. Applications that can demonstrate a higher level of match will receive greater consideration.

Proposals for the PATH program will be evaluated with equal weight being given to Capacity of the Applicant and Relevant Staff; Need/Extent of the Problem; and Soundness of Approach. The factor, Leveraging Resources, will be evaluated but will be a lesser component of the overall assessment.

B. Reviews and Selection Process. The proposals will be reviewed to assess how they comply with and advance PATH program goals of advancing the diffusion of technology, affordability, durability, energy efficiency, and disaster resistance. Proposals will also be evaluated from a technical basis with regard to the potential for successful completion of the proposed effort. Staff of the Affordable Housing Research and Technology Division will be responsible for evaluation of the proposals against the merit criteria. Preliminary applications will be reviewed against the criteria and a determination shall be made whether the application has sufficient merit to warrant HUD requesting the applicant to submit a full proposal. Full proposals shall use the same criteria as described in this Notice to determine their acceptability for funding. Final award selections will be made by the Office of the Assistant Secretary for Policy Development at HUD.

Evaluation panels will consist of two or three HUD researchers selected for their knowledge of the subject area and PATH program. Reviewers will evaluate summary and (if requested) full proposals independently and then will establish a consensus evaluation. This evaluation will include consideration of the effort's technical merit, the feasibility, relationship with PATH goals, and the available funding. Reviewers will be selected based on their availability, experience with the subject material, and understanding of the PATH program goals.

C. Anticipated Announcement and Award Dates. It is anticipated that selection of proposals for full application submissions will begin within 30 days of receipt of a preliminary application. Applicants will be notified in writing whether their proposal was selected for full application submission or not. The notification to selected applicants will provide detailed instructions for submission of the full proposal and the date by which the full proposal must be received by HUD. Receipt of an invitation to submit a more detailed full application does not imply that an award of a cooperative agreement for the proposed work is expected. The invitation is only an indication that the Preapplication is of sufficient merit to have passed preliminary review and to justify preparation of a full application submission.

HUD anticipates that awards can be provided within 120 days following full application submission by applicants selected to submit full applications. Unsuccessful applicants will be notified within 60 days of submission of their preliminary or full submission.

VI. Award Administration Information

A. Award Notices. Successful applicants will be notified by HUD and asked to meet with HUD to finalize the award of the Cooperative Agreement and also to begin the final refinement of the research strategy. If necessary, negotiations with applicants will occur following award selection but before award. If these negotiations do not result in agreement between HUD and the potential awardee, the award process will not be completed. Following successful negotiations, the executed Cooperative Agreement award document signed by both HUD and the applicant is the authorization document and will govern the work to be performed.

B. Administrative and National Policy Requirements.

1. The terms and conditions for the PATH Cooperative Agreements will be posted with other information on the PATH Web site at http://www.pathnet.org/. Successful applicants will be expected to comply with OMB circular requirements and the Terms and Conditions of the Award Agreement.

2. Procurement of Recovered Materials. For requirements pertaining to purchase of recovered materials by applicants that are state agencies or agencies of a political subdivision of a state, please see the General Section of the 2005 SuperNOFA, published March 21, 2005 (70 FR 13576).

C. Reporting. Following award, grantees will be required to submit quarterly and annual reports which describe the progress of the effort. The report format is available at http://www.huduser.org/. Periodic reports may be submitted in hard copy or electronically as determined by HUD. Applicants will also be required to submit a final report which summarizes the entire work and achievements conducted under award. This report will address the specific outcomes described in the applicant's proposal, the cooperative agreement award, achievement of project goals and metrics, and the management plan.

VII. Agency Contact(s)

Please submit any technical questions to: Mr. Dana Bres, P.E., Affordable Housing Research and Technology Division, Office of Policy Development and Research, Department of Housing and Urban Development, 451 Seventh Street, SW., Washington, DC 20410, telephone (202) 708-4370, ext. 5919, e-mail dana_b._bres@hud.gov.

Administrative questions should be directed to Mr. Patrick Tewey, Director, Budget, Contracts, and Program Control Division, Office of Policy Development and Research, Department of Housing and Urban Development, 451 Seventh Street, SW., Washington, DC 20410, telephone (202) 708-1796, ext. 4098, e-mail Patrick_j._tewey@hud.gov. (These numbers are not toll-free.) For hearing- and speech-impaired persons, these numbers may be accessed via TTY (text telephone) by calling the Federal Information Relay Service at 1-800-877-8339.

Technical questions regarding accessing or applying on line via Grants.gov should be directed to Grants.gov Support at 800-518-GRANTS. The support staff are also available by email at the following address: Support@Grants.gov. Grants.gov support is available from 7 a.m. to 9 p.m., eastern time, Monday-Friday, except Federal holidays.

VIII. Other Information

A. Related Activities. Efforts which may relate to this announcement include contract efforts to conduct field evaluations of PATH technologies, ongoing contract efforts to further develop the PATH concept house, and PATH marketing and outreach efforts performed by contract. If applicants are interested in such activities, they should review the HUD Procurement Forecast published by the HUD Office of Procurement and Contracts. Information on the PATH program is available on the Web at http://www.pathnet.org/ and http://www.toolbase.org/.

B. Proprietary Information. Because it is the intent of the PATH program to accelerate the use of technologies in the residential construction, any information or research results that the applicant proposes will remain proprietary must be discussed in its application. As the diffusion of technologies relies on the exchange of information, such requests for retention of proprietary information would be considered in the review process.

C. Other Matters. Please be advised that applicants should not begin work or incur expenses that they anticipate would be part of a proposed cooperative agreement until they have a fully executed agreement. Only the PD&R grants officer can obligate the Government through this process. Although PATH expects to award cooperative agreements under this announcement, it is possible that awards will be made at levels less than discussed above or for total amounts less than those discussed above.

D. Paperwork Reduction Act Statement. The information collection requirements contained in this document has been submitted to the Office of Management and Budget (OMB) for approval under the Paperwork Reduction Act of 1995 (44 U.S.C. 3501-3520) and OMB approval is pending. In accordance with the Paperwork Reduction Act, HUD may not conduct or sponsor, and a person is not required to respond to, a collection of information unless the collection displays a currently valid OMB control number. Public reporting burden for the collection of information is estimated to average 78 hours per annum per respondent for the application and grant administration (13 hours for the preparation of a preliminary proposal, 39 hours for the preparation of a full proposal, and 26 hours to complete the cooperative agreement). This includes time for collecting, reviewing, and reporting the data for the application. The information will be used for grantee selection and monitoring the administration of funds. Response to this request for information is required to receive the benefits to be derived.

E. Environmental Review. This Notice does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19(c)(1), this Notice is categorically excluded from environmental review under the National Environmental Policy Act of 1969 (42 U.S.C. 4321).

Dated: May 16, 2005.
Harold L. Bunce,
Deputy Assistant Secretary for Economic Affairs.

[FR Doc. E5-2564 Filed 5-20-05; 8:45 am]

BILLING CODE 4210-27-P